DEPARTMENT OF AGRICULTURE

Grain Inspection, Packers and Stockyards Administration

Notice of Request for New Information Collection

AGENCY: Grain Inspection, Packers and Stockyards Administration, USDA

ACTION: Notice and request for comments.

SUMMARY: In accordance with the Paperwork Reduction Act of 1995 (44 U.S.C. Chapter 35), this notice announces the Grain Inspection, Packers and Stockyards Administration's (GIPSA) intent to request approval for designated official agencies to complete FGIS Form 921-2, Inspection Report—Insects in Grain in order to facilitate the transfer of information to the Animal and Plant Health Inspection Service for phytosanitary certification. Currently, FGIS field offices, delegated States, and designated agencies inspect and certify grain for insects. FGIS field offices and delegated States provide insect information for export grain vessels to APHIS on FGIS-921-2 for APHIS issuance of a phytosanitary certificate. This request will enable official agencies to provide similar insect information for export grain shipped in trucks, railcars, and containers loaded at interior locations to APHIS.

DATES: Comments must be submitted by March 14, 2006.

ADDRESSES: We invite you to submit comments on this notice. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to (202) 690-2755.

• Hand Delivery or Courier: Deliver comments to: Tess Butler, GIPSA, USDA, 1400 Independence Avenue, SW., Room 1647-S, Washington, DC 20250-3604.

Instructions: All comments should make reference to the date and page number of this issue of the Federal Register.

Background Documents: Information collection packag4e and other documents relating to this action will be available for public inspection in the above office during regular business hours.

Read Comments: All comments will be available for public inspection in the above office during regular business hours (7 CFR 1.27(b)).

FOR FURTHER INFORMATION CONTACT: For information on the collection and use of this information, contact Martin Begley at telephone (202) 720-0277, or via e-mail martin.a.begley@usda.gov.

SUPPLEMENTARY INFORMATION: The Animal and Plant Health Inspection Service (APHIS) is responsible for inspecting plants and plant products offered for export, and certifying their freedom from plant pests in accordance with the phytosanitary requirements of foreign countries. To help shippers and other interested parties obtain phytosanitary inspection services at export port locations, GIPSA and APHIS entered into an agreement under which official inspection personnel transmit grain inspection information to APHIS. The agreement, procedures, and requirements are outlined in FGIS Directive 9180.35, dated May 1, 1997, http://151.121.3.117/reference-library/directives/9180-35.pdf.

To facilitate the issuance of phytosanitary certificates for export grain loaded into trucks, railcars, and containers at interior locations, APHIS and GIPSA expanded the existing agreement to permit official agencies, authorized by GIPSA to perform USDA recognized grain inspection services, to transmit grain inspection information to APHIS for phytosanitary certification purposes. The agreement is outlined in FGIS Directive 9180.34, dated May 24, 2005, which is available at: http://151.121.3.117/reference-library/directives/9180-34.pdf). Under the new agreement, FGIS Form 921-2 would be used by designated official agencies to transmit grain inspection information to APHIS for export grain loaded at interior shipping points.

Title: Inspection Report—Insects in Grain.

OMB Number: 0580—New.

Expiration Date of Approval: New.

Type of Request: New information collection.

Abstract: The United States Grain Standards Act (7 U.S.C. 71 et seq.) and the Agricultural Marketing Act of 1946 (7 U.S.C. 1621 et seq.) provide that USDA inspect, certify and identify the class, quality, quantity and condition of grain and other agricultural products shipped or received in interstate and foreign commerce.

Estimate of Burden: Public reporting and record keeping burden for this collection of information is estimated to average 5 minutes per response.

Respondents: Official grain inspection agencies.

Estimated Number of Respondents: 35.

Estimated Number of Responses per Respondent: 62.

Estimated Total Annual Burden on Respondents: 180 hours.

Upon OMB approval, this package will be merged into package 0580-0013.

Comments: Comments are invited on: (a) Whether the information collection is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or forms of information technology. All responses to this notice will be summarized and included in the request for OMB approval. All comments will also become a matter of public record.

James E. Link,
Administrator, Grain Inspection, Packers and Stockyards Administration.

[FR Doc. 06-279 Filed 1-12-06; 8:45 am]

BILLING CODE 3410-EN-U